DEPARTMENT OF JUSTICE

Notice of Lodging of Consent Decree Pursuant to the Rivers and Harbors Act and Clean Water Act

In accordance with Departmental Policy, 28 CFR 50.7, notice is hereby given that a consent decree in United States v. AT&T Corp., et al., (D.V.I.), Civil Action No. 2004-174, was lodged with the District Court of the Virgin Islands, Division of St. Thomas and St. John, on December 17, 2004.

This is a civil enforcement action stating claims against AT&T Corp. and AT&T of the Virgin Islands for violations of the Rivers and Harbors Act (“RHA”), 33 U.S.C. 401 et seq., and the Clean Water Act (“CWA”), 33 U.S.C. 1251 et seq., in connection with the Defendants' construction of a breakwater structure in the Magens Bay in St. Thomas, the U.S. Virgin Islands along the shoreline adjacent to the location where Defendants had installed an “ocean ground bed.”

The proposed Consent Decree would resolve these violations and, among other provisions, would require Defendants to (1) Pay a civil penalty in the amount of $450,000, (2) ensure that the violation area is restored, (3) grant a conservation easement over the beach area to an environmental organization, and (4) abide by certain corporate compliance procedures to help avoid future violations.

The Department of Justice will accept written comments relating to the proposed Consent Decree for thirty (30) days from the date of publication of this notice. Comments should be addressed to the Assistant Attorney General, Environment and Natural Resources Division, U.S. Department of Justice, Attention: Michele L. Walter, Environmental Defense Section, P.O. Box 23986, Washington, DC 20026-3986, and must refer to United States v. AT&T Corp., et al., DJ Reference No. 90-5-1-1-16423.

The proposed consent decree is on file at the Clerk's Office, United States District Court, District of the Virgin Islands, 310 Federal Building, 5500 Veterans Drive, Charlotte Amalie, St. Thomas, Virgin Islands 00802, and may be examined there to the extent allowed by the rules of the Clerk's Office. In addition, written requests for a copy of the consent decree may be mailed to Michele L. Walter, Environmental Defense Section, U.S. Department of Justice, P.O. Box 23986, Washington, DC 20026-3986, and should refer to United States v. AT&T Corp., et al., DJ Reference No. 90-5-1-1-16423. All written requests for a copy of the Consent Decree must include the full mailing address to which the Consent Decree should be sent.

Mary F. Edgar,
Assistant Section Chief, Environmental Defense Section, Environment and Natural Resources Division, U.S. Department of Justice.

[FR Doc. 05-1186 Filed 1-21-05; 8:45 am]

BILLING CODE 4410-15-M